SMALL BUSINESS ADMINISTRATION

National Small Business Development Center Advisory Board Public Meeting

The U.S. Small Business Administration (SBA), Office of Small Business Development Center (SBDC), National Advisory Board will be hosting their Spring Board meeting in conjunction with the Association of Small Business Development Centers. The Spring Board meeting will be held on Tuesday, March 1, 2005, until Thursday, March 3, 2005, in Washington, DC. The National Advisory Board meeting will be held on Thursday, March 3, 2005, from 11:30 am to 3:30 pm. The meeting will take place at the U.S. Small Business Administration, 409 3rd Street SW., Administrator Conference Room, 7th Floor, Washington, DC 20416. The topics of discussion will include SBDC assistance to small manufacturers, online counseling pilot and program marketing.

Anyone wishing to attend must contact Dionna Martin in writing or by fax. Dionna Martin, Senior Program Manager, U.S. Small Business Administration, Office of Small Business Development Center, 409 3rd Street, SW., Washington, DC 20416, telephone: (202) 205-7042, fax: (202) 481-1671.

Matthew K. Becker,
Committee Management Officer.

[FR Doc. 05-3820 Filed 2-25-05; 8:45 am]

BILLING CODE 8025-01-P